DEPARTMENT OF TRANSPORTATION

Pipeline and Hazardous Materials Safety Administration

49 CFR Parts 191, 192 and 195

[Docket ID PHMSA-2010-0026]

RIN 2137-AE59

Pipeline Safety: Miscellaneous Changes to Pipeline Safety Regulations

AGENCY: Pipeline and Hazardous Materials Safety Administration (PHMSA); DOT.

ACTION: Notice of proposed rulemaking; extension of comment period.

SUMMARY: On November 29, 2011, PHMSA published in the Federal Register a Notice of Proposed Rulemaking titled: “Miscellaneous Changes to Pipeline Safety Regulations” seeking comments on the need for changes to the regulations covering pipeline safety regulations. The Committee on Pipe and Tube Imports Ad Hoc Large Diameter Line Pipe Producers Group Transportation Subcommittee and the Interstate Natural Gas Association of America petitioned PHMSA to extend the comment period. PHMSA is granting these requests and extending the comment period from February, 3, 2012, to March 6, 2012.

DATES: The closing date for filing comments is extended from February 3, 2012, to March 6, 2012.

ADDRESSES: Comments should reference Docket No. PHMSA-2010-0026 and may be submitted in the following ways:

• E-Gov Web Site: http://www.Regulations.gov. This site allows the public to enter comments on any Federal Register notice issued by any agency.

• Fax: 1-(202) 493-2251.

• Mail: DOT Docket Management System: U.S. DOT, Docket Operations, M-30, West Building Ground Floor, Room W12-140, 1200 New Jersey Avenue SE., Washington, DC 20590-0001.

Hand Delivery: U.S. DOT Docket Management System; West Building Ground Floor, Room W12-140, 1200 New Jersey Avenue SE., Washington, DC 20590-0001, between 9 a.m. and 5 p.m., Monday through Friday, except Federal holidays.

Instructions: You should identify the Docket No. PHMSA-2010-0026 at the beginning of your comments. If you submit your comments by mail, please submit two copies. To receive confirmation that PHMSA received your comments, include a self-addressed stamped postcard. Internet users may submit comments to the Docket at http://www.regulations.gov.

Note: Comments are posted without changes or edits to http://www.regulations.gov, including any personal information provided. There is a privacy statement published on http://www.regulations.gov.

FOR FURTHER INFORMATION CONTACT: For further information contact Kay McIver at 202-366-4046 or by EMail at kay.mciver@dot.gov

SUPPLEMENTARY INFORMATION:

Background

On November 29, 2011, PHMSA issued a notice of proposed rulemaking (NPRM) that would make miscellaneous amendments to the pipeline safety regulations (76 FR 73570). On January 12, 2012, the Interstate Natural Gas Association of America requested an extension of the comment period for that NPRM. On January 20, 2012, the Committee on Pipe and Tube Imports Ad Hoc Large Diameter Line Pipe Producers Group Transportation Subcommittee also requested an extension of the comment period to further review a National Transportation Safety Board (NTSB) recommendation that would impact guidelines on the transportation of pipe. PHMSA believes that extension of the comment period is warranted based on the information provided in these requests. Therefore, PHMSA has extended the comment period from February 3, 2012 to March 6, 2012.

Issued in Washington, DC, on January 30, 2012.
Jeffrey D. Wiese,
Associate Administrator for Pipeline Safety.

[FR Doc. 2012-2406 Filed 2-2-12; 8:45 am]

BILLING CODE 4910-60-P